DEPARTMENT OF THE INTERIOR

Bureau of Land Management

[WY-921-1430-ET; WYW 74730]

Notice of Proposed Extension of Public Land Order No. 6368; Opportunity for Public Meeting; Wyoming

AGENCY: Bureau of Land Management, Interior.

ACTION: Notice.

SUMMARY: The Bureau of Land Management (BLM) proposes to extend Public Land Order No. 6368 for a 20-year period. This order withdrew public lands from location and entry under the mining laws to protect the Horsethief and Natural Trap Caves in Big Horn County. The lands have been and will remain open to mineral leasing. This notice also gives an opportunity to comment on the proposed action and to request a public meeting.

DATES: Comments and requests for a public meeting must be received by January 6, 2003.

ADDRESSES: Comments and meeting requests should be sent to the BLM Wyoming State Director, P.O. Box 1828, Cheyenne, Wyoming 82003-1828.

FOR FURTHER INFORMATION CONTACT: Janet Booth at 307-775-6124.

SUPPLEMENTARY INFORMATION: On September 13, 2002, a petition/application was approved allowing the Bureau of Land Management to file an application to extend Public Land Order No. 6368. This withdrawal was made to protect the important recreational, scientific, and educational values of the Horsethief and Natural Trap Caves. Public Land Order No. 6368 will expire on April 15, 2003.

The withdrawal comprises approximately 528.23 acres of public land as described below:

Sixth Principal Meridian

T. 58 N., R. 94 W.,

Sec. 20, lots 1 to 8, inclusive, and S½N½;

Sec. 21, lots 4, 5, and SW¼NW¼;

Sec. 28, S½SE¼.

For a period of 90 days from the date of publication of this notice, all persons who wish to submit comments, suggestions, or objections in connection with the proposed extension may present their views in writing to the undersigned officer of the BLM.

Notice is hereby given that an opportunity for a public meeting is afforded in connection with the proposed extension. All interested persons who desire a public meeting for the purpose of being heard on the proposed extension should submit a written request to the Wyoming State Director within 90 days from the date of publication of this notice. If the authorized officer determines that a public meeting will be held, a notice of the time and place will be published in the Federal Register at least 30 days before the scheduled date of the meeting.

This extension will be processed in accordance with the regulations set forth in 43 CFR 2310.4.

Dated: September 27, 2002.
Alan L. Kesterke,
Acting State Director.

[FR Doc. 02-25436 Filed 10-4-02; 8:45 am]

BILLING CODE 4310-22-P